ENVIRONMENTAL PROTECTION AGENCY

[FRL- 9906-07-OA]

Notification of Three Public Meetings of the Chemical Assessment Advisory Committee (CAAC), the CAAC Augmented for the Review of Ammonia and the CAAC Augmented for the Review of Trimethylbenzenes

AGENCY: Environmental Protection Agency (EPA).

ACTION: Notice.

SUMMARY: The Environmental Protection Agency (EPA or agency) Science Advisory Board (SAB) Staff Office announces three public meetings. The SAB Chemical Assessment Advisory Committee (CAAC) and additional experts will meet in a plenary session to learn about new enhancements to the EPA's process for developing Integrated Risk Information System (IRIS) health assessments for chemicals. After the plenary session, there will be two concurrent panel meetings to conduct chemical-specific peer reviews. A panel composed of a subset of CAAC members augmented with subject matter experts will conduct a peer review of the EPA's IRIS Toxicological Review of Ammonia (August 2013 Draft). A panel composed of the remaining subset of CAAC members augmented with other subject matter experts will conduct a peer review of the EPA's Toxicological Review of Trimethylbenzenes (August 2013 Draft).

DATES: The plenary session will be held on Tuesday February 18, 2014 from 8:30 a.m. to 11:30 a.m. (Eastern Time). The meetings to review the two draft IRIS assessments, Toxicological Review of Ammonia (August 2013 Draft) and Toxicological Review of Trimethylbenzenes (August 2013 Draft) will be held concurrently on Tuesday February 18, 2014 from 11:30 a.m. to 5:30 p.m. (Eastern Time), Wednesday February 19, 2014 from 8:30 a.m. to 5:30 p.m. (Eastern Time) and Thursday February 20, 2014 from 8:30 a.m. to 5:30 p.m. (Eastern Time).

ADDRESSES: The meetings will be held at the Crowne Plaza Washington National Airport, 1480 Crystal Drive, Arlington, VA, 22202.

FOR FURTHER INFORMATION CONTACT: Members of the public who wish to obtain further information regarding this announcement may contact Dr. Sue Shallal, Designated Federal Officer (DFO) for the CAAC augmented for the Ammonia Review, by telephone/voice mail at (202) 564-2057 or via email at shallal.suhair@epa.gov and Mr. Thomas Carpenter, DFO for the CAAC augmented for the Trimethylbenzenes Review, by telephone/voice mail at (202) 564-4885 or via email at carpenter.thomas@epa.gov. General information concerning the EPA SAB can be found at http://www.epa.gov/sab.

Technical Contact for EPA's draft assessments: For information concerning the EPA draft assessments, please contact Dr. Samantha Jones, National Center for Environmental Assessment, Office of Research and Development, U.S. EPA, 1200 Pennsylvania Avenue NW., Mail Code 8601P, Washington, DC 20460, phone (703) 347-8580 or via email at jones.samantha@epa.gov.

SUPPLEMENTARY INFORMATION: Background: The SAB was established pursuant to the Environmental Research, Development, and Demonstration Authorization Act (ERDDAA) codified at 42 U.S.C. 4365, to provide independent scientific and technical peer review, advice, consultation and recommendations to the EPA Administrator on the technical basis for EPA actions. As a Federal Advisory Committee, the SAB conducts business in accordance with the Federal Advisory Committee Act (FACA) (5 U.S.C. App. 2) and related regulations. Pursuant to FACA and EPA policy, notice is hereby given that the SAB Chemical Assessment Advisory Committee (CAAC) along with additional experts will hold public meetings to: (1) Learn about the EPA's enhancements to the process for developing Integrated Risk Information System (IRIS) health assessments for chemicals and (2) to conduct peer reviews of two draft IRIS assessments, Toxicological Review of Ammonia (August 2013 Draft) and Toxicological Review of Trimethylbenzenes (August 2013 Draft). The SAB committee and panels will comply with the provisions of FACA and all appropriate SAB Staff Office procedural policies.

EPA's Office of Research and Development has requested that the SAB conduct peer reviews of two draft documents, Toxicological Review of Ammonia (August 2013 Draft) and Toxicological Review of Trimethylbenzenes (August 2013 Draft). The EPA SAB Staff Office augmented the SAB CAAC with subject matter experts to provide advice through the chartered SAB regarding these IRIS assessments. The SAB Staff Office previously requested public nominations of experts to serve as chemical-specific experts for these peer reviews in a Federal Register notice published on August 28, 2013 (78:167 pp. 53144-46). Information about the formation of the SAB CAAC augmented for the Ammonia peer review can be found on the SAB Web site at http://yosemite.epa.gov/sab/sabproduct.nsf/02ad90b136fc21ef85256eba00436459/2fe334e0bec7a3cf85257b65005c500b!OpenDocument&TableRow=2.1#2. Information about the formation of the SAB CAAC augmented for the Trimethylbenzenes peer review can be found on the SAB Web site at http://yosemite.epa.gov/sab/sabproduct.nsf/02ad90b136fc21ef85256eba00436459/ee1e280e77586de985257b65005d37e7!OpenDocument&TableRow=2.1#2.

Prior to the beginning of their peer review activities, the augmented CAAC panels will meet in a plenary session to receive EPA briefings on the enhancements to the process for developing IRIS health assessments for chemicals.

Availability of the review materials: Information about these public meetings will be available on the SAB Web site (http://www.epa.gov/sab) prior to the meetings. Meeting materials can be accessed by using the “calendar” link in the blue navigation sidebar and then clicking on the date corresponding to the meeting date.

Procedures for Providing Public Input: Public comments for consideration by EPA's federal advisory committees and panels have a different purpose from public comments provided to EPA program offices. Therefore, the process for submitting comments to a federal advisory committee is different from the process used to submit comments to an EPA program office. Federal advisory committees and panels, including scientific advisory committees, provide independent advice to EPA. Members of the public can submit relevant comments pertaining to the committee's charge, meeting materials and/or the group conducting the activity. Input from the public to the SAB will have the most impact if it consists of comments that provide specific scientific or technical information or analysis for the SAB committee to consider or if it relates to the clarity or accuracy of the technical information. Members of the public wishing to provide comment should contact the Designated Federal Officer for the relevant advisory committee directly.

Oral Statements: In general, individuals or groups requesting an oral presentation will be limited to five minutes per speaker. Interested parties wishing to provide comments regarding the IRIS process enhancements or the SAB's review of the agency's Toxicological Review of Ammonia (August 2013 Draft) should contact Dr. Suhair Shallal, DFO, and interested parties wishing to provide comments regarding the Toxicological Review of Trimethylbenzenes (August 2013 Draft) should contact Mr. Thomas Carpenter, DFO in writing (preferably via email), at the contact information noted above, by February 10, 2014 to be placed on the list of public speakers for the meeting. Written Statements: Written statements should be received in the SAB Staff Office by February 10, 2014 so that the information can be made available to the SAB Committee for consideration. Written statements should be supplied to the appropriate DFO in electronic format via email (acceptable file formats: Adobe Acrobat PDF, WordPerfect, MS Word, MS PowerPoint, or Rich Text files in IBM-PC/Windows 98/2000/XP format). It is the SAB Staff Office general policy to post written comments on the Web page for the advisory meeting or teleconference. Submitters are requested to provide an unsigned version of each document because the SAB Staff Office does not publish documents with signatures on its Web sites. Members of the public should be aware that their personal contact information, if included in any written comments, may be posted to the SAB Web site. Copyrighted material will not be posted without explicit permission of the copyright holder.

Accessibility: For information on access or services for individuals with disabilities, please contact Dr. Sue Shallal or Mr. Thomas Carpenter at the phone number or email address noted above, preferably at least ten days prior to the meeting, to give EPA as much time as possible to process your request.

Dated: January 23, 2014.
Christopher S. Zarba,
Director, EPA Science Advisory Board Staff Office.

[FR Doc. 2014-02096 Filed 1-30-14; 8:45 am]

BILLING CODE 6560-50-P